DEPARTMENT OF HOUSING AND URBAN DEVELOPMENT

[Docket No. FR-4572-D-01]

Revocation and Redelegation of Authority Concerning the Federal Tort Claims Act and the Military Personnel and Civilian Employees' Act of 1964

AGENCY: Office of the General Counsel, HUD.

ACTION: Notice of revocation and redelegation of authority.

SUMMARY: In this Notice, the General Counsel revokes and redelegates authority to dispose of claims arising under the Federal Tort Claims Act and the Military Personnel and Civilian Employees' Claims Act.

EFFECTIVE DATE: January 4, 2000.

FOR FURTHER INFORMATION CONTACT: Miniard Culpepper, Assistant General Counsel for New England, Department of Housing and Urban Development, Thomas P. O'Neill, Jr. Federal Building, 10 Causeway Street, Room 378, Boston, MA 02222, phone: 617-565-5126. (This is not a toll-free number.) Hearing or speech-impaired individuals may access this number via TTY by calling the toll-free Federal Information Relay Service at 1-800-877-8339.

SUPPLEMENTARY INFORMATION: HUD is implementing a major agency-wide improvement effort. The details of this reform effort are set forth in the HUD 2020 Management Reform Plan, which was published in the Federal Register on August 12, 1997(62 FR 43204). The reforms are directed toward: (1) Empowering people and communities to improve themselves; and (2) restoring the public trust in the Department's programs and operations. As part of the HUD 2020 Management Reform Plan, there has been a reorganization of the Office of General Counsel and HUD's Field structure in order to provide the best service possible to HUD program and administrative offices, members of the public, and program beneficiaries relying on HUD's legal services.

Previously, by Notice of Redelegation of Authority published in the Federal Register on October 20, 1994 at 59 FR 52986, the General Counsel had redelegated to the Associate General Counsel for Human Resources Law and to the Field Assistant General Counsel, the authority to handle claims relating to the Federal Tort Claims Act and the Military Personnel and Civilian Employees' Claims Act. This Notice revokes that portion of 59 FR 52986 that had redelegated authority to the Field Assistant General Counsel.

Under the HUD 2020 Management Reform Plan, all claims relating to the Federal Tort Claims Act and the Military Personnel and Civilian Employees' Claims Act will be the responsibility of HUD's Federal Tort Claims Center. This Notice redelegates to the Assistant General Counsel for New England, within HUD's Federal Tort Claims Center, the authority to adjust, determine, compromise and settle claims under the Federal Tort Claims Act, 28 U.S.C. 2871, and the Military Personnel and Civilian Employees' Claims Act of 1964, 31 U.S.C. 3721.

Accordingly, the General Counsel revokes and redelegates authority as follows:

Section A. Authority Revoked

This Notice revokes Section A.2. of the Notice of Redelegation of Authority published in the Federal Register on October 20, 1994 at 59 FR 52986, which redelegated authority to consider, ascertain, adjust, determine, compromise, allow, deny or otherwise dispose of claims under the Federal Tort Claims Act and the Military Personnel and Civilian Employees Claims Act of 1964, from the General Counsel to the Field Assistant General Counsel.

Section B. Authority Redelegated

The General counsel redelegates to the Assistant General Counsel for New England, within HUD's Federal Tort Claims Center, the power and authority to consider, ascertain, adjust, determine, compromise, allow, deny or otherwise dispose of claims under the Federal Tort Claims Act and the Military Personnel and Civilian Employees' Claims Act of 1964.

Section C. Authority to Further Redelegate

The authority redelegated under Section B., above, may not be further redelegated.

Authority: Section 7(d), Department of Housing and Urban Development Act, 42 U.S.C. 3535(d); 24 CFR 17.7 and 17.47.

Dated: January 4, 2000.
Gail Laster,
General Counsel, Department of Housing and Urban Development.

[FR Doc. 00-2043 Filed 1-28-00; 8:45 am]

BILLING CODE 4210-01-P